DEPARTMENT OF THE INTERIOR

Bureau of Land Management

Notice of Intent To Prepare the Caliente Resource Management Plan and Environmental Impact Statement for the Bakersfield Field Office, CA

AGENCY: Bureau of Land Management, Interior.

ACTION: Notice of Intent.

SUMMARY: The Bureau of Land Management's (BLM's) Bakersfield Field Office intends to revise the Resource Management Plan (RMP) for public lands and mineral estate within the Bakersfield Field Office, and prepare an associated Environmental Impact Statement (EIS). The RMP revision will update the existing Caliente Resource Management Plan. This notice initiates the public scoping process and provides information regarding public scoping meetings.

DATES: The public scoping process is initiated upon the date of publication of this notice. Formal scoping will end 60 days after publication of this notice; however, collaboration with the public will continue throughout the planning process. The BLM will hold public scoping meetings to identify relevant issues, and will announce these meetings at least 15 days in advance of the meetings through local news media, newsletters, and the BLM Web site: http://www.blm.gov/ca/st/en/fo/bakersfield.html. Formal opportunities for public participation will also be provided upon publication of the Draft RMP/EIS.

ADDRESSES: You may submit comments by any of the following methods:

• Web Site: http://www.blm.gov/ca/st/en/fo/bakersfield.html.

• E-mail: cacalrmp@ca.blm.gov.

• Fax: (661) 391-6041.

• Mail: Caliente RMP, Bureau of Land Management, 3801 Pegasus Drive, Bakersfield, CA 93308.

Documents pertinent to this proposal may be examined at the Bakersfield Field Office.

FOR FURTHER INFORMATION CONTACT: For further information and/or to have your name added to our mailing list, contact Steve Larson: Telephone (661) 391-6022; e-mail cacalrmp@ca.blm.gov.

SUPPLEMENTARY INFORMATION: This document provides notice that the BLM office in Bakersfield, California, intends to revise an RMP and prepare an associated EIS for the BLM managed public lands and interests within the Bakersfield Field Office—exclusive of the California Coastal National Monument and the Carrizo Plain National Monument. This document also announces public scoping meetings.

The planning area is located in Fresno, Kern, Kings, Madera, San Luis Obispo, Santa Barbara, Tulare, and Ventura Counties in California. This planning area encompasses approximately 400,000 acres of public land and an additional 450,000 acres of federal mineral estate. The plan will fulfill the needs and obligations set forth by the National Environmental Policy Act (NEPA), the Federal Land Policy and Management Act (FLPMA), and BLM management policies. The BLM will work collaboratively with interested parties to identify the management decisions that are best suited to local, regional, and national needs and concerns.

The purpose of the public scoping process is to determine relevant issues that will influence the scope of the environmental analysis and EIS alternatives. These issues also guide the planning process. You may submit comments on issues and planning criteria in writing to the BLM at any public scoping meeting, or you may submit them to the BLM using one of the methods listed in the ADDRESSES section above. To be most helpful, you should submit formal scoping comments within 30 days after the last public meeting. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety. The minutes and list of attendees for each scoping meeting will be available to the public and open for 30 days after the meeting to any participant who wishes to clarify the views he or she expressed.

Preliminary issues and management concerns have been identified by BLM, other agencies, and in meetings with individuals and user groups. They represent the BLM's knowledge to date regarding the existing issues and concerns with current land management. The major issues that will be addressed in this planning effort include: Oil & gas leasing and development; management of threatened & endangered plant and animal species; land tenure adjustment; and recreation management.

After public scoping comments are gathered, issues that are identified will be placed in one of three categories:

1. Issues to be resolved in the plan;

2. Issues to be resolved through policy or administrative action; or

3. Issues beyond the scope of this plan.

The BLM will provide an explanation in the plan as to why issues are placed in categories two or three. In addition to these major issues, a number of management questions and concerns will be addressed in the plan. The public is encouraged to help identify these questions and concerns during the scoping phase.

Preliminary planning criteria have been identified as:

1. The plan will establish new guidance and identify existing guidance upon which the BLM will rely in managing public lands within the Bakersfield Field Office.

2. The plan will be completed in compliance with the Federal Land Policy and Management Act (FLPMA) and all other applicable laws.

3. The planning process will include an environmental impact statement that will comply with the National Environmental Policy Act (NEPA) standards.

4. The RMP/EIS will incorporate by reference the Standards for Rangeland Health and Guidelines for Livestock Grazing Management.

5. The RMP/EIS will incorporate by reference all prior wilderness designations and wilderness study area findings that affect public lands in the planning area.

6. The plan will provide determinations as required by special program and resource specific guidance detailed in Appendix C of the BLM's Planning Handbook.

7. Decisions in the plan will strive to be compatible with the existing plans and policies of adjacent local, State, Tribal, and Federal agencies as long as the decisions are in conformance with Bureau policies on management of public lands.

8. The scope of analysis will be consistent with the level of analysis in approved plans and in accordance with Bureau-wide standards and program guidance.

9. Resource allocations must be reasonable and achievable within available technological and budgetary constraints.

10. The lifestyles and concerns of area residents will be recognized in the plan.

11. All lands within the California Coastal National Monument and the Carrizo Plain National Monument—both of which will be covered under separate resource management plans—will be dropped from the revised Caliente Resource Management Plan.

12. Decisions and management actions within the existing plan will be evaluated; those that are determined to still be valid will be carried forward into this revised RMP.

The BLM will use an interdisciplinary approach to develop the plan in order to consider the variety of resource issues and concerns identified. Specialists with expertise in the following disciplines will be involved in the planning process: Outdoor recreation, archaeology, wildlife biology, botany, rangeland management, oil & gas, geology, realty, and fire management.

Dated: January 29, 2008.
Timothy Z. Smith,
Bakersfield Field Office Manager.

[FR Doc. E8-4071 Filed 3-3-08; 8:45 am]

BILLING CODE 4310-$$-P